DEPARTMENT OF STATE

[Public Notice 5828]

Advisory Committee on International Economic Policy; Notice of Open Meeting

The Advisory Committee on International Economic Policy (ACIEP) will meet from 2 p.m. to 4 p.m. on Tuesday, July 31, 2007, at the U.S. Department of State, 2201 C Street, NW., Room 1107, Washington, DC. The meeting will be hosted by Assistant Secretary of State for Economic, Energy and Business Affairs, Daniel S. Sullivan and Committee Chairman R. Michael Gadbaw. The ACIEP serves the U.S. Government in a solely advisory capacity concerning issues and challenges in international economic policy. The meeting will focus on Total Economic Engagement, including a regional focus on Nigeria, sectoral focus on health and the President's Malaria Initiative, and Subcommittee reports and discussions led by the new Strategic Regions Subcommittee (related to the new Economic Engagement in Strategic Regions initiative) and the work program of the ongoing Economic Sanctions Subcommittee.

This meeting is open to the public as seating capacity allows. Entry to the building is controlled; to obtain pre-clearance for entry, members of the public planning to attend should provide, by Friday, July 27, their name, professional affiliation, valid government-issued ID number (i.e., U.S. Government ID [agency], U.S. military ID [branch], passport [country], or drivers license [state]), date of birth, and citizenship to Ronelle Jackson by fax (202) 647-5936, e-mail (JacksonRS@state.gov), or telephone (202) 647-9204. One of the following forms of valid photo identification will be required for admission to the State Department building: U.S. driver's license, passport, or U.S. Government identification card. Enter the Department of State from the C Street lobby. In view of escorting requirements, non-Government attendees should plan to arrive not less than 15 minutes before the meeting begins.

For additional information, contact Senior Coordinator Nancy Smith-Nissley, Office of Economic Policy and Public Diplomacy, Bureau of Economic, Energy and Business Affairs, at (202) 647-1682 or Smith-NissleyN@state.gov.

Dated: June 26, 2007.
Kurt D. Donnelly,
Deputy Director, Office of Economic Policy Analysis and Public Diplomacy, Department of State.

[FR Doc. E7-13127 Filed 7-5-07; 8:45 am]

BILLING CODE 4710-07-P